DEPARTMENT OF DEFENSE

Department of the Air Force

HQ USAF Scientific Advisory Board; Notice of Meeting

AGENCY: Department of the Air Force, HQ USAF Scientific Advisory Board, DOD.

ACTION: Notice of meeting.

SUMMARY: Pursuant to Public Law 92-463, notice is hereby given of the forthcoming meeting of the Air Force Scientific Advisory Board. The purpose of the meeting is to kickoff the fiscal year 2007 study session and welcome new members to the board. Due to restrictions on entering the building, anyone planning to attend must contact the POC below by October 2, 2006. Attendees will be escorted for the entire portion of the meeting.

DATES: 11-12 October 2006.

ADDRESSES: SAF/AQ Conference and Innovation Center, 1560 Wilson Blvd., 4th Floor, Arlington, VA 22209.

FOR FURTHER INFORMATION CONTACT: Maj Deven Lowman, Air Force Scientific Advisory Board Secretariat, 1180 Air Force Pentagon, Rm. 5D982, Washington, DC 20330-1180, (703) 697-4811.

Bao-Anh Trinh,
Air Force Federal Register Liaison Officer.

[FR Doc. 06-8039 Filed 9-21-06; 8:45 am]

BILLING CODE 5001-05-P